DEPARTMENT OF AGRICULTURE

Rural Utilities Service

Rural Broadband Access Loans and Loan Guarantees Program

AGENCY: Rural Utilities Service, USDA.

ACTION: Notice of Solicitation of Applications (NOSA).

SUMMARY: The Rural Utilities Service (RUS), an Agency of the United States Department of Agriculture (USDA), announces that it is accepting applications for fiscal year (FY) 2019 for the Rural Broadband Access Loans and Loan Guarantees Program (the Broadband Program). RUS will publish the amount of funding received through the final appropriations act on its website at https://www.rd.usda.gov/newsroom/notices-solicitation-applications-nosas.

RUS is accepting applications on a rolling basis throughout FY 2019. This will give RUS the ability to request additional information and modifications to a submitted application whenever necessary.

Applications will be processed on a first come, first served basis. Every 90 days, RUS will conduct an evaluation of the submitted applications. During the evaluation period, applications will be ranked based on the percentage of unserved households that the applicant proposes to serve. RUS will conduct at least two evaluation periods for FY 2019. Because the Agency will receive applications throughout the fiscal year, subsequent evaluation periods can alter the ranking of applications.

In addition to announcing its acceptance of FY 2019 applications, RUS revises the minimum and maximum amounts for broadband loans for the fiscal year.

DATES: Applications under this NOSA will be accepted immediately through September 30, 2019. RUS will process loan applications as they are received.

Applications can only be submitted online through the RD Apply website at https://www.rd.usda.gov/programs-services/rd-apply through September 30, 2019.

FOR FURTHER INFORMATION CONTACT: Shawn Arner, Deputy Assistant Administrator, Loan Origination and Approval Division, Rural Utilities Service, Room 2844, STOP 1597, 1400 Independence Avenue SW, Washington, DC 20250-1597; telephone: (202) 720-0800, or email: shawn.arner@usda.gov.

SUPPLEMENTARY INFORMATION:

General Information

The Rural Broadband Access Loan and Loan Guarantee Program (the Broadband Program) is authorized by the Rural Electrification Act (7 U.S.C. 901 et seq.), as amended by the Agricultural Act of 2014 (Pub. L. 113-79), also referred to as the 2014 Farm Bill.

During FY 2019, loans will be made available for the construction, improvement, and acquisition of facilities and equipment that will provide service at the Broadband Lending Speed in eligible rural areas. Applications are subject to the requirements of 7 CFR part 1738. No funding for Guaranteed Loans is available in FY 2019 and the agency will not be considering applications for this type of funding.

The Agency encourages applications that will support recommendations made in the Rural Prosperity Task Force report to help improve life in rural America which can be found at www.usda.gov/ruralprosperity. Applicants are encouraged to consider projects that provide measurable results in helping rural communities build robust and sustainable economies through strategic investments in infrastructure, partnerships and innovation. Key strategies include:

• Achieving e-Connectivity for Rural America

• Developing the Rural Economy

• Harnessing Technological Innovation

• Supporting a Rural Workforce

• Improving Quality of Life

Application Assistance

RUS offers pre-application assistance, in which National Office staff and the assigned General Field Representative review the draft application, provide detailed comments, and identify areas where an application is not meeting eligibility requirements for funding. The online application system allows RUS staff to assist an applicant with every part of an application as it is being developed. Once the application is formally submitted, the online system will timestamp the submitted version and establish the application's place in the processing queue.

Based on the order in which the applications are received, RUS will review the application for completeness. The applicant may be asked for additional information to clarify aspects of an otherwise complete application or to assist the Agency in the underwriting process. If the application is determined to be complete, RUS will review the package for eligibility and technical and financial feasibility, in accordance with 7 CFR part 1738. If an application is ultimately found to be incomplete or inadequate, a detailed explanation will be provided to the applicant.

To further assist in the preparation of applications, an application guide is available online at: https://www.rd.usda.gov/programs-services/farm-bill-broadband-loans-loan-guarantees. An application guide may also be requested from the RUS contact listed in the FOR FURTHER INFORMATION CONTACT section of this notice.

Application Requirements: All requirements for submission of an application under the Broadband Program are subject to 7 CFR part 1738.

Application Materials/Submission: Applications must be submitted through the Agency's online application system located at https://www.rd.usda.gov/programs-services/rd-apply. All materials required for completing an application are included in the online system.

Minimum and Maximum Loan Amounts

Loans under this authority will not be made for less than $100,000. The maximum loan amount that will be considered for FY 2019 is $25,000,000.

Required Definitions for Broadband Program Regulation

The regulation for the Broadband Program requires that certain definitions affecting eligibility be revised and published from time to time by the Agency in the Federal Register. For the purposes of this NOSA, the Agency is revising the definitions of Broadband Service and Broadband Lending Speed.

Broadband Service is determined to exist if customers can access a minimum rate-of-data transmission of 25 megabits downstream and 3 megabits upstream for both mobile and fixed service. This rate is used to determine whether an area is eligible for funding.

Broadband Lending Speed is the minimum rate-of-data transmission that applicants must propose to offer the customer. The Broadband Lending Speed is 25 megabits downstream and 3 megabits upstream for both mobile and fixed service.

Priority for Approving Loan Applications

Applications for FY 2019 will be accepted from the publication date of this NOSA through September 30, 2019. Although review of applications will begin as they are submitted, all applications will be evaluated and ranked every 90 days based on the percentage of unserved households in the proposed funded service area. Subject to available funding, eligible applications that propose to serve a higher percentage of unserved households will receive funding offers before other eligible applications that propose to serve a lower percentage of unserved households. The amount available will be published on the Agency web page once all budgetary allocations have been completed.

Loan offers are limited to the funds available at the time of the Agency's decision to approve an application.

Applications will not be accepted after September 30, 2019, until a new application opportunity has been opened with the publication of an additional NOSA in the Federal Register.

Paperwork Reduction Act

In accordance with the Paperwork Reduction Act of 1995, the information collection requirements associated with Broadband loans, as covered in this NOSA, have been approved by the Office of Management and Budget (OMB) under OMB Control Number 0572-0130.

USDA Non-Discrimination Statement

In accordance with Federal civil rights law and USDA civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the Agency or USDA's TARGET Center at (202) 720-2600 (voice and TTY) or contact USDA through the Federal Relay Service at (800) 877-8339 (English) or (800) 845-6136 (Spanish).

Individuals who wish to file a Program Discrimination Complaint must complete the USDA Program Discrimination Complaint Form (PDF). To file a program discrimination complaint, you may obtain a complaint form by sending an email to Cr-info@ascr.usda.gov or calling (866) 632-9992 to request the form. A letter may also be written containing all of the information requested in the form.

Send the completed complaint form or letter by mail to the U.S. Department of Agriculture, Director, Office of Adjudication, 1400 Independence Avenue SW, Washington, DC 20250-9410, or email at program.intake@usda.gov. Additional information can be found online at https://www.ascr.usda.gov/filing-program-discrimination-complaint-usda-customer.

USDA is an equal opportunity provider, employer, and lender.

Dated: October 24, 2018.
Christopher A. McLean,
Acting Administrator, Rural Utilities Service.

[FR Doc. 2018-24860 Filed 11-14-18; 8:45 am]

BILLING CODE P